DEPARTMENT OF COMMERCE

International Trade Administration

[A-533-840]

Certain Frozen Warmwater Shrimp From India: Preliminary Results of Antidumping Duty Administrative Review; 2018-2019

AGENCY: Enforcement and Compliance, International Trade Administration, Department of Commerce.

SUMMARY: The Department of Commerce (Commerce) preliminarily determines that certain frozen warmwater shrimp (shrimp) from India is being, or is likely to be, sold in the United States at less than normal value.

DATES: Applicable March 6, 2020.

FOR FURTHER INFORMATION CONTACT: Brittany Bauer or Benjamin Luberda, AD/CVD Operations, Office II, Enforcement and Compliance, International Trade Administration, U.S. Department of Commerce, 1401 Constitution Avenue NW, Washington, DC 20230; telephone: (202) 482-3860 or (202) 482-2185, respectively.

Background

Commerce is conducting an administrative review of the antidumping duty order on shrimp from India. The review covers 183 producers and/or exporters of the subject merchandise. Commerce selected two mandatory respondents for individual examination: Razban Seafoods Ltd. (Razban) and Z A Sea Foods Pvt. Ltd. (ZA Sea Foods). The period of review (POR) is February 1, 2018 through January 31, 2019.

On October 8, 2019, Commerce extended the preliminary results of this review by 120 days, until February 28, 2020.¹ For a complete description of the events that followed the initiation of this review, see the Preliminary Decision Memorandum.²

¹ See Memorandum, “Certain Frozen Warmwater Shrimp from India: Extension of Deadline for Preliminary Results of Antidumping Duty Administrative Review,” dated October 8, 2019.

² See Memorandum, “Decision Memorandum for the Preliminary Results of the 2017-2018 Administrative Review of the Antidumping Duty Order on Certain Frozen Warmwater Shrimp from India,” dated concurrently with, and hereby adopted by, this notice (Preliminary Decision Memorandum).

Scope of the Order

The merchandise subject to the order is certain frozen warmwater shrimp.³ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description remains dispositive.

³ For a complete description of the Scope of the Order, see Preliminary Decision Memorandum.

Preliminary Determination of No Shipments

On August 19, 2019, Razban filed a letter stating that it made no shipments of subject merchandise to the United States during the POR. We noted that the U.S. Customs and Border Protection (CBP) data placed on the record of this review contained entries from Razban which were classified as subject merchandise. Razban submitted comments regarding the CBP data, in which it explained that these entries contained errors. To support its statements, Razban submitted factual information related to its business operations. After reviewing the additional information provided by Razban, we preliminarily determine that Razban had no shipments during the POR.

Consistent with our practice, we are not preliminarily rescinding the review with respect to Razban. Rather, we will complete the review with respect to this company and issue appropriate instructions to CBP based on the final results of this review.

Methodology

Commerce is conducting this review in accordance with section 751(a)(2) of the Tariff Act of 1930, as amended (the Act). Export price is calculated in accordance with section 772 of the Act. Normal value is calculated in accordance with section 773 of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov, and to all parties in the Central Records Unit, Room B8024 of the main Commerce building. In addition, a complete version of the Preliminary Decision Memorandum can be accessed directly at http://enforcement.trade.gov/frn/. The signed and electronic versions of the Preliminary Decision Memorandum are identical in content. A list of the topics discussed in the Preliminary Decision Memorandum is attached at the appendix to this notice.

Preliminary Results of the Review

As a result of this review, we preliminarily determine that weighted-average dumping margins exist for the respondents for the period February 1, 2018 through January 31, 2019, as follows:

Exporter/producer | Weighted- average dumping margin (percent)
Z A Sea Foods Pvt. Ltd | 3.57

Review-Specific Rate Applicable to the Following Companies: ⁴

⁴ Because we only had one respondent with a calculated rate, this rate is used for the review-specific rate.

⁵ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, we initiated this administrative review with respect to Devi only for shrimp produced in India where Devi acted as either the manufacturer or exporter (but not both).

Exporter/producer | Weighted- average dumping margin (percent)
Abad Fisheries | 3.57
Albys Agro Private Limited | 3.57
Allana Frozen Foods Pvt. Ltd | 3.57
Allanasons Ltd | 3.57
Amarsagar Seafoods Private Limited | 3.57
AMI Enterprises | 3.57
Amulya Seafoods | 3.57
Anatha Seafoods Private Limited | 3.57
Angelique International Ltd | 3.57
Ayshwarya Seafood Private Limited | 3.57
B R Traders | 3.57
Baby Marine Eastern Exports | 3.57
Baby Marine Exports | 3.57
Baby Marine International | 3.57
Baby Marine Sarass | 3.57
Baby Marine Ventures | 3.57
Balasore Marine Exports Private Limited | 3.57
Bell Exim Private Limited (Bells Foods (Marine Division)) | 3.57
Bhatsons Aquatic Products | 3.57
Bhavani Seafoods | 3.57
Bijaya Marine Products | 3.57
Blue Fin Frozen Foods Pvt. Ltd | 3.57
Blue Water Foods & Exports P. Ltd | 3.57
B-One Business House Pvt. Ltd | 3.57
Britto Seafood Exports Pvt Ltd | 3.57
Canaan Marine Products | 3.57
Capithan Exporting Co | 3.57
Cargomar Private Limited | 3.57
Chakri Fisheries Private Limited | 3.57
Chemmeens (Regd) | 3.57
Cherukattu Industries (Marine Div) | 3.57
Cochin Frozen Food Exports Pvt. Ltd | 3.57
Continental Fisheries India Private Limited | 3.57
Coreline Exports | 3.57
Corlim Marine Exports Pvt. Ltd | 3.57
Crystal Sea Foods Private Limited | 3.57
D2 D Logistics Private Limited | 3.57
Damco India Private | 3.57
Delsea Exports Pvt. Ltd | 3.57
Devi Sea Foods Limited ⁵ | 3.57
Entel Food Products Private Limited | 3.57
Esmario Export Enterprises | 3.57
Everblue Sea Foods Private Limited | 3.57
Exporter Coreline Exports | 3.57
Febin Marine Foods | 3.57
Five Star Marine Exports Private Limited | 3.57
Forstar Frozen Foods Pvt. Ltd | 3.57
Fouress Food Products Private Limited | 3.57
Frontline Exports Pvt. Ltd | 3.57
G A Randerian Ltd | 3.57
Gadre Marine Exports | 3.57
Galaxy Maritech Exports P. Ltd | 3.57
Geo Aquatic Products (P) Ltd | 3.57
Goodwill Enterprises | 3.57
Grandtrust Overseas (P) Ltd | 3.57
Green House Agro Products | 3.57
GVR Exports Pvt. Ltd | 3.57
Hari Marine Private Limited | 3.57
Haripriya Marine Export Pvt. Ltd | 3.57
Harmony Spices Pvt. Ltd | 3.57
HIC ABF Special Foods Pvt. Ltd | 3.57
Hindustan Lever, Ltd | 3.57
Hiravata Ice & Cold Storage | 3.57
Hiravati Exports Pvt. Ltd | 3.57
Hiravati International Pvt. Ltd (located at APM-Mafco Yard, Sector-18, Vashi, Navi, Mumbai-400 705, India) | 3.57
Hiravati International Pvt. Ltd (located at Jawar Naka, Porbandar, Gujarat, 360 575, India) | 3.57
Hiravati Marine Products Private Limited | 3.57
HN Indigos Private Limited | 3.57
Hyson Logistics and Marine Exports Private Limited | 3.57
Indian Aquatic Products | 3.57
Indo Aquatics | 3.57
Indo Fisheries | 3.57
Indo French Shellfish Company Private Limited | 3.57
Innovative Foods Limited | 3.57
International Freezefish Exports | 3.57
Interseas | 3.57
Jinny Marine Traders | 3.57
Jiya Packagings | 3.57
Kalyanee Marine | 3.57
Kanch Ghar | 3.57
Karunya Marine Exports Private Limited | 3.57
Kaushalya Aqua Marine Product Exports Pvt. Ltd | 3.57
Kay Exports | 3.57
Kings Marine Products | 3.57
Koluthara Exports Ltd | 3.57
Landauer Ltd | 3.57
Libran Cold Storages (P) Ltd | 3.57
Magnum Export | 3.57
Malabar Arabian Fisheries | 3.57
Malnad Exports Pvt. Ltd | 3.57
Mangala Sea Products | 3.57
Marine Harvest India | 3.57
Meenaxi Fisheries Pvt. Ltd | 3.57
Megaa Moda Pvt. Ltd | 3.57
Milsha Agro Exports Private Limited | 3.57
Mourya Aquex Pvt. Ltd | 3.57
MTR Foods | 3.57
N.C. John & Sons (P) Ltd | 3.57
Naik Frozen Foods | 3.57
Naik Oceanic Exports Pvt. Ltd/Rafiq Naik Exports Pvt. Ltd ⁶ | 3.57
Naik Seafoods Ltd | 3.57
Nekkanti Mega Food Park Private Limited | 3.57
Nine Up Frozen Foods | 3.57
Nutrient Marine Foods Limited | 3.57
Oceanic Edibles International Limited | 3.57
Paragon Sea Foods Pvt. Ltd | 3.57
Paramount Seafoods | 3.57
Parayil Food Products Pvt., Ltd | 3.57
Pesca Marine Products Pvt., Ltd | 3.57
Pijikay International Exports P Ltd | 3.57
Pisces Seafoods International | 3.57
Pravesh Seafood Private Limited | 3.57
Premier Exports International | 3.57
Premier Marine Foods | 3.57
Premier Seafoods Exim (P) Ltd | 3.57
R F Exports | 3.57
R V R Marine Products Limited | 3.57
Raa Systems Pvt. Ltd | 3.57
Raju Exports | 3.57
Raunaq Ice & Cold Storage | 3.57
Raysons Aquatics Pvt. Ltd | 3.57
RBT Exports | 3.57
RDR Exports | 3.57
RF Exports Private Limited | 3.57
Riviera Exports Pvt. Ltd | 3.57
Rohi Marine Private Ltd | 3.57
Royal Imports and Exports | 3.57
RSA Marines | 3.57
S & S Seafoods | 3.57
S Chanchala Combines | 3.57
Safa Enterprises | 3.57
Sagar Foods | 3.57
Sagar Samrat Seafoods | 3.57
Sagravihar Fisheries Pvt. Ltd | 3.57
Salvam Exports (P) Ltd | 3.57
Samaki Exports Private Limited | 3.57
Sanchita Marine Products P Limited | 3.57
Santhi Fisheries & Exports Ltd | 3.57
Sarveshwari Exp. | 3.57
Sea Foods Private Limited | 3.57
Sea Gold Overseas Pvt. Ltd | 3.57
Selvam Exports Private Limited | 3.57
Sharma Industries | 3.57
Shimpo Exports Private Limited | 3.57
Shimpo Seafoods Private Limited | 3.57
Shiva Frozen Food Exp. Pvt. Ltd | 3.57
Shroff Processed Food & Cold Storage P Ltd | 3.57
Silver Seafood | 3.57
Sita Marine Exports | 3.57
Sowmya Agri Marine Exports | 3.57
Sri Sakkthi Cold Storage | 3.57
Sri Venkata Padmavathi Marine Foods Pvt. Ltd | 3.57
Srikanth International ⁷ | 3.57
SSF Ltd | 3.57
Star Agro Marine Exports Private Limited | 3.57
Star Organic Foods Incorporated | 3.57
Star Organic Foods Private Limited | 3.57
Stellar Marine Foods Private Limited | 3.57
Sterling Foods | 3.57
Sun Agro Exim | 3.57
Sun-Bio Technology Ltd | 3.57
Supran Exim Private Limited | 3.57
Suvarna Rekha Exports Private Limited | 3.57
Suvarna Rekha Marine P Ltd | 3.57
TBR Exports Pvt Ltd | 3.57
Teekay Marine P. Ltd | 3.57
The Waterbase Limited | 3.57
Triveni Fisheries P. Ltd | 3.57
U & Company Marine Exports | 3.57
Ulka Sea Foods Private Limited | 3.57
Uniroyal Marine Exports Ltd | 3.57
Unitriveni Overseas | 3.57
V.S Exim Pvt Ltd | 3.57
Vasai Frozen Food Co | 3.57
Veejay Impex | 3.57
Veronica Marine Exports Private Limited | 3.57
Victoria Marine & Agro Exports Ltd | 3.57
Vinner Marine | 3.57
Vitality Aquaculture Pvt. Ltd | 3.57
VRC Marine Foods LLP | 3.57
Zeal Aqua Limited | 3.57

Verification

⁶ In past reviews, Commerce has treated these companies as a single entity. See, e.g., Certain Frozen Warmwater Shrimp from India: Final Results of Antidumping Duty Administrative Review; 2016-2017, 83 FR 32835 (July 16, 2018). Absent information to the contrary, we continue to treat these companies as a single entity for purposes of this administrative review.

⁷ On August 27, 2010, Srikanth International was found to be the successor-in-interest to NGR Aqua International. See Certain Warmwater Shrimp from India: Final Results of Antidumping Duty Changed Circumstances Review, 75 FR 52718 (August 27, 2010). Therefore, we did not initiate a separate administrative review with respect to NGR Aqua International.

The petitioner ⁸ requested verification and cited good cause for verification.⁹ Accordingly, as provided in section 782(i)(3) of the Act, we intend to verify information relied upon for the final results.

⁸ The Ad Hoc Shrimp Trade Action Committee (the petitioner).

⁹ See Petitioner's Letter, “Certain Frozen Warmwater Shrimp from India: Comments on Z.A. Sea Foods Private Limited's Section A Response and Request for Verification,” dated September 26, 2019. Although section 351.307(b)(v)(A) of the Act instructs parties to request verification within 100 days of the date of publication of the notice of initiation of the review, in this case, ZA Sea Foods and Razban were not selected as respondents until the 98th day after publication of the notice of initiation. Consequently, the petitioner requests that Commerce “exercise its discretion to consider this request.”

Disclosure and Public Comment

Commerce intends to disclose the calculations performed in connection with these preliminary results to interested parties within five days after the date of publication of this notice.¹⁰ Interested parties may submit case briefs to Commerce no later than seven days after the date of the final verification report issued in this review. Rebuttal briefs, limited to issues raised in the case briefs, may be filed no later than five days after the time limit for filing case briefs.¹¹ Parties who submit case briefs or rebuttal briefs in this proceeding are encouraged to submit with each argument: (1) A statement of the issue; (2) a brief summary of the argument; and (3) a table of authorities.¹² Case and rebuttal briefs should be filed using ACCESS.¹³

¹⁰ See 19 CFR 351.224(b).

¹¹ See 19 CFR 351.309(d).

¹² See 19 CFR 351.309(c)(2) and (d)(2).

¹³ See 19 CFR 351.303.

Pursuant to 19 CFR 351.310(c), interested parties who wish to request a hearing must submit a written request to the Assistant Secretary for Enforcement and Compliance, filed electronically via ACCESS. An electronically-filed document must be received successfully in its entirety by ACCESS by 5:00 p.m. Eastern Time within 30 days after the date of publication of this notice.¹⁴ Hearing requests should contain: (1) The party's name, address, and telephone number; (2) the number of participants; and (3) a list of issues to be discussed. Issues raised in the hearing will be limited to issues raised in the briefs. If a request for a hearing is made, parties will be notified of the time and date for the hearing to be held at the U.S. Department of Commerce, 1401 Constitution Avenue NW, Washington, DC 20230.¹⁵

¹⁴ See 19 CFR 351.310(c).

¹⁵ Id.

Commerce intends to issue the final results of this administrative review, including the results of its analysis raised in any written briefs, not later than 120 days after the publication date of this notice, pursuant to section 751(a)(3)(A) of the Act.

Assessment Rates

Upon completion of the administrative review, Commerce shall determine, and CBP shall assess, antidumping duties on all appropriate entries covered by this review.¹⁶

¹⁶ See 19 CFR 351.212(b)(1).

Pursuant to 19 CFR 351.212(b)(1), because ZA Sea Foods reported the entered value for all of its U.S. sales, we will calculate importer-specific ad valorem duty assessment rates based on the ratio of the total amount of antidumping duties calculated for the examined sales to the total entered value of the sales for which entered value was reported. Where either the respondent's weighted-average dumping margin is zero or de minimis within the meaning of 19 CFR 351.106(c), or an importer-specific rate is zero or de minimis, we will instruct CBP to liquidate the appropriate entries without regard to antidumping duties.

For the companies which were not selected for individual review, we will assign an assessment rate based on the cash deposit rate calculated for ZA Sea Foods. The final results of this review shall be the basis for the assessment of antidumping duties on entries of merchandise covered by the final results of this review and for future deposits of estimated duties, where applicable.¹⁷

¹⁷ See section 751(a)(2)(C) of the Act.

Further, if we continue to find in the final results that Razban had no shipments of subject merchandise during the POR, we will instruct CBP to liquidate any suspended entries that entered under its antidumping duty case number (i.e., at that exporter's rate) at the all-others rate if there is no rate for the intermediate company(ies) involved in the transaction.

We intend to issue liquidation instructions to CBP 15 days after publication of the final results of this review.

Cash Deposit Requirements

The following deposit requirements will be effective for all shipments of the subject merchandise entered, or withdrawn from warehouse, for consumption on or after the publication date of the final results of this administrative review, as provided by section 751(a)(2)(C) of the Act: (1) The cash deposit rate for each specific company listed above will be that established in the final results of this review, except if the rate is less than 0.50 percent and therefore de minimis within the meaning of 19 CFR 351.106(c)(1), in which case the cash deposit rate will be zero; (2) for previously reviewed or investigated companies not participating in this review, the cash deposit will continue to be the company-specific rate published for the most recently completed segment; (3) if the exporter is not a firm covered in this review, or the original less-than-fair-value (LTFV) investigation, but the manufacturer is, the cash deposit rate will be the rate established for the most recent segment for the manufacturer of the merchandise; and (4) the cash deposit rate for all other manufacturers or exporters will continue to be 10.17 percent, the all-others rate made effective by the LTFV investigation.¹⁸ These deposit requirements, when imposed, shall remain in effect until further notice.

¹⁸ See Notice of Amended Final Determination of Sale at Less Than Fair Value and Antidumping Duty Order: Certain Frozen Warmwater Shrimp from India, 70 FR 5147 (February 1, 2005).

Notification to Importers

This notice also serves as a reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act.

Dated: February 27, 2020.
Jeffrey I. Kessler,
Assistant Secretary for Enforcement and Compliance.

Appendix

List of Topics Discussed in the Preliminary Decision Memorandum

I. Summary

II. Background

III. Scope of the Order

IV. Discussion of the Methodology

V. Currency Conversion

VI. Recommendation

[FR Doc. 2020-04625 Filed 3-5-20; 8:45 am]

BILLING CODE 3510-DS-P